SECURITIES AND EXCHANGE COMMISSION

[Release No. 35-27365]

Filings Under the Public Utility Holding Company Act of 1935, as amended (“Act”)

March 23, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by April 17, 2001, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After April 17, 2001, the application(s) and/or declaration(s), as filed or as amended, may be granted and/or permitted to become effective.

Northeast Utilities, et al. (70-9825)

Northeast Utilities (“NU”), 174 Brush Hill Avenue, West Springfield, Massachusetts 01090-0010, a registered holding company, and its public utility subsidiary, The Connecticut Light and Power Company (“CL&P”), 107 Selden Street, Berlin, Connecticut 06037 (collectively, “Applicants”) have filed a declaration under section 12(d) of the Act and rules 44 and 54 under the Act.

Applicants seek an order of the Commission approving the sale of CL&P's South Meadow electric generating station (“Station”) to the Connecticut Resources Recovery Authority (“CRRA”), a public instrumentality and political subdivision of the State of Connecticut. CRRA performs the essential government functions of handling and disposing of solid waste and resource recovery in Connecticut. The Station consists of two steam turbines and four jet turbine sets with a rated capability of approximately 250 megawatts, to generate electricity, in part from steam produced from combustion of municipal solid waste.

CRRA will pay CL&P $10 million for the Station.¹ Also, CRRA will assume all but $2 million of the on-site environmental obligations. Minor amounts of the “transmission” assets, which are jurisdictional to the Federal Energy Regulatory Commission, will be included with the Station. CL&P will retain either a fee interest or adequate easement rights for the existing substation, switchyard and related transmission and distribution facilities. CRRA will continue to use the Station to process municipal solid waste. CRRA will generate electricity for sale to CL&P and in the New England competitive markets.

¹ As of November 30, 2000, the net book value (excluding dismantlement reserves) of the Station was approximately $2.9 million.

For the Commission, by the Division of Investment Management, pursuant to delegated authority.
Margaret H. McFarland,
Deputy Secretary.

[FR Doc. 01-7791 Filed 3-28-01; 8:45 am]

BILLING CODE 8010-01-M